DEPARTMENT OF HEALTH AND HUMAN SERVICES

Health Resources and Services Administration

Advisory Council; Notice of Meeting

In accordance with section 10(a)(2) of the Federal Advisory Committee Act (Public Law 92-463), announcement is made of the following National Advisory body scheduled to meet during the month of February 2001.

Name: National Advisory Council on the National Health Service Corps.

Date and Time: February 1, 2001; 6:00 p.m.-9:00 p.m.; February 2, 2001; 8:30 a.m.-4:30 p.m.; February 3, 2001; 9:00 a.m. to 5:00 p.m.; February 4, 2001; 8:30 a.m.-10:30 a.m.

Place: Double Tree Hotel, 1750 Rockville Pike, Rockville, MD 20852. Phone: (301) 468-1100.

The meeting is open to the public.

Agenda: The Council will focus its agenda on strategic and operational plans for the current fiscal year.

For further information, call Ms. Eve Morrow, Division of National Health Service Corps, at (301) 594-4144.

Agenda items and times are subject to change as priorities dictate.

Dated: January 12, 2001.
Jane M. Harrison,
Director, Division of Policy Review and Coordination.

[FR Doc. 01-1610 Filed 1-19-01; 8:45 am]

BILLING CODE 4160-15-P